DEPARTMENT OF HEALTH AND HUMAN SERVICES

Centers for Disease Control and Prevention

Disease, Disability, and Injury Prevention and Control Special Emphasis Panel (SEP): Expansion of the National Mesothelioma Virtual Registry and Tissue Bank, Request for Application (RFA) OH08-002

In accordance with Section 10(a)(2) of the Federal Advisory Committee Act (Pub. L. 92-463), the Centers for Disease Control and Prevention (CDC) announces the aforementioned meeting.

Time and Date: 1 p.m.-2 p.m., May 5, 2008 (Closed).

Place: CDC, 2400 Century Center Parkway, 4th Floor, Atlanta, GA 30345.

Status: The meeting will be closed to the public in accordance with provisions set forth in Section 552b(c)(4) and (6), Title 5 U.S.C., and the Determination of the Director, Management Analysis and Services Office, CDC, pursuant to Public Law 92-463.

Matters To Be Discussed: The meeting will include the review, discussion, and evaluation of “Expansion of the National Mesothelioma Virtual Registry and Tissue Bank, RFA OH08-002.”

For Further Information Contact: Charles N. Rafferty, Ph.D., Assistant Director for Review and Policy, Office of Extramural Programs, CDC, 1600 Clifton Road, NE., Mailstop E74, Atlanta, GA 30333, Telephone (404) 498-2530.

The Director, Management Analysis and Services Office, has been delegated the authority to sign Federal Register notices pertaining to announcements of meetings and other committee management activities, for both CDC and the Agency for Toxic Substances and Disease Registry.

Dated: April 9, 2008.
Elaine L. Baker,
Director, Management Analysis and Services Office, Centers for Disease Control and Prevention.

[FR Doc. E8-8123 Filed 4-15-08; 8:45 am]

BILLING CODE 4163-18-P